FEDERAL COMMUNICATIONS COMMISSION

47 CFR Part 73

[DA 05-1299; MB Docket No. 05-184]

Radio Broadcasting Services; Aspen and Leadville, CO

AGENCY: Federal Communications Commission.

ACTION: Proposed rule.

SUMMARY: This document requests comments on the removal of two mutually exclusive vacant allotments, Channel 228A at Aspen, Colorado and Channel 228A at Leadville, Colorado. The allotments are not in compliance with the minimum distance separation requirements of Section 73.207(b) of the Commission's Rules. These vacant allotments are short-spaced by 45.3 kilometers, whereas the minimum distance spacing requirement for these allotments is 115 kilometers. Channel 228A at Aspen, Colorado was allotted in 2001, as the community's third local FM commercial service without a site restriction at coordinates 39-11-24 NL and 106-49-06 WL. Channel 228A at Leadville, Colorado is a vacant allotment resulting from the cancellation of the Station KRMH-FM license in 1997. See BLH-19860207KD. The reference coordinates for vacant Channel 228A at Leadville are 39-14-51 NL and 106-17-57 WL. Interest parties should file comments expressing an interest in the vacant allotments to prevent removal.

DATES: Comments must be filed on or before June 30, 2005 and reply comments on or before July 15, 2005.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Notice of Proposed Rule Making, MB Docket No. 05-184, adopted May 4, 2005 and released May 9, 2005. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Colorado, is amended by removing Channel 228A at Aspen and Leadville, Channel 228A.

Federal Communications Commission.
John A. Karousos,
Assistant Chief, Audio Division, Media Bureau.

[FR Doc. 05-10115 Filed 5-24-05; 8:45 am]

BILLING CODE 6712-01-P